DEPARTMENT OF HOUSING AND URBAN DEVELOPMENT

[Docket No. FR-5420-N-02]

Notice of Regulatory Waiver Requests Granted for the Second Quarter of Calendar Year 2010

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2010 and ending on June 30, 2010.

FOR FURTHER INFORMATION CONTACT: For general information about this notice, contact Camille E. Acevedo, Associate General Counsel for Legislation and Regulations, Department of Housing and Urban Development, 451 7th Street, SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the second quarter of calendar year 2010.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2010 through June 30, 2010. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2010) before the next report is published (the third quarter of calendar year 2010), HUD will include any additional waivers granted for the third quarter in the next report.

Accordingly, information about approved waiver requests pertaining to HUD regulations is provided in the Appendix that follows this notice.

Dated: September 24, 2010.
Helen R. Kanovsky,
General Counsel.

APPENDIX

Listing of Waivers of Regulatory Requirements Granted by Offices of the Department of Housing and Urban Development April 1, 2010 Through June 30, 2010

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The Town of Jean Lafitte, LA received an Economic Development Initiative Special Purpose (EDI-SP) grant in the amount of $248,000 for the construction of the Lafitte Multi-Purpose Center. The Lafitte Multi-Purpose Center is an education theater, civic center/emergency shelter, and a fisheries museum that will provide educational opportunities, cultural opportunities and emergency response functions. Subsequent to the December 8, 2004 appropriation for the EDI-SP grant, but prior to the completion of a Federal environmental review and any release of funds from HUD, the Town of Jean Lafitte spent non-HUD funds on construction activities for the project.

Nature of Requirement: HUD's regulation at 24 CFR 58.22(a) requires that an environmental review be performed and a request for release of funds be completed and certified prior to the commitment of non-HUD funds to a project using HUD funds.

Granted By: Mercedes M. Márquez, Assistant Secretary for Community Planning and Development.

Date Granted: April 12, 2010.

Reason Waived: The waiver was granted based on the following findings: the project would further the HUD mission and advance HUD program goals related to community development; the errors made in the environmental process for the commitment of non-HUD funds were made in good faith and the Town of Jean Lafitte did not willfully violate the applicable regulations; no HUD funds were committed; and, based on the revised environmental assessment and the HUD field inspection, granting a waiver would not result in any unmitigated, adverse environmental impact.

Contact: Danielle Schopp, Office of Environment and Energy, Office of Community Planning and Development, Department of Housing and Urban Development, 451 7th Street, SW., Room 7250, Washington, DC 20410-7000, telephone (202) 402-4442.

• Regulation: 24 CFR 58.22(a).

Project/Activity: Hopewell Village involves the new construction of a 71 unit apartment complex to serve independent elderly residents in Elverson, PA. The residential portion of the development is to consist of a single three story structure. A portion of the existing former fire station on site is to be retained to serve as a senior community center and dining facility. Chester County conditionally awarded HUD HOME funds to the Hopewell Village project in February 2007. Subsequent to the application and conditional award of HOME funds, but prior to any release of funds from HUD, the project developer initiated choice-limiting actions including demolition and site clearance. Chester County completed the environmental review on January 5, 2010.

Nature of Requirement: HUD's regulation at 24 CFR 58.22(a) requires that an environmental review be performed and a request for release of funds be completed and certified prior to the commitment of non-HUD funds to a project using HUD funds.

Granted By: Mercedes M. Márquez, Assistant Secretary for Community Planning and Development.

Date Granted: April 28, 2010.

Reason Waived: The waiver was granted based on the following findings: the above project would further the HUD mission and advance HUD program goals related to develop affordable housing; the errors made in the environmental process for the commitment of non-HUD funds were made in good faith and Chester County did not willfully violate the applicable regulations; no HUD funds were committed; and, based on the environmental assessment and the HUD field inspection, granting a waiver would not result in any unmitigated, adverse environmental impact.

Contact: Danielle Schopp, Office of Environment and Energy, Office of Community Planning and Development, Department of Housing and Urban Development, 451 7th Street, SW., Room 7250, Washington, DC 20410-7000, telephone (202) 402-4442.

• Regulation: 24 CFR 58.22(a).

Project/Activity: Miraflores Housing Development involves the construction of 80 rental units of housing for low-income seniors and 150 homeownership units on a former commercial nursery in Richmond, CA. The City of Richmond intends to use $1 million in Section 108 loan guarantee funds for the development. HUD funds were also used for predevelopment costs with $400,000 from HOME and $429,000 from CDBG. Violations occurred when subsequent to application for HUD Section 108 loan guarantee, the City of Richmond used non-HUD funds to purchase two parcels of property prior to the completion of an environmental review.

Nature of Requirement: HUD's regulation at 24 CFR 58.22(a) requires that an environmental review be performed and a request for release of funds be completed and certified prior to the commitment of non-HUD funds to a project using HUD funds.

Granted By: Mercedes M. Márquez, Assistant Secretary for Community Planning and Development.

Date Granted: June 16, 2010.

Reason Waived: The waiver was granted based on the following findings: the above project would further the HUD mission and advance HUD Section 108 loan guarantee program, provides needed housing for low-income seniors, and appropriately remediates and redevelops a brownfield site; no HUD funds were committed; and, based on the environmental assessment and the HUD field inspection, granting a waiver would not result in any unmitigated, adverse environmental impact.

Contact: Danielle Schopp, Office of Environment and Energy, Office of Community Planning and Development, Department of Housing and Urban Development, 451 7th Street, SW., Room 7250, Washington, DC 20410-7000, telephone (202) 402-4442.

• Regulation: 24 CFR 91.105(c)(1).

Project/Activity: The city of Harrisonburg, VA, received over two feet of snow during a storm in February, 2010 and requested a waiver of Consolidated Plan requirements applicable to its CDBG program, in order to use CDBG funds to assist with snow removal by private contractors.

Nature of Requirement: Under the Consolidated Plan regulations, a grantee may amend its plan in order to change its allocation priorities, to carry out an activity not previously described in the plan, or to change the purpose, scope, location, or beneficiaries of an activity. Under normal circumstances, a grantee follows its own amendment procedures which require public notice and comment periods. Section 91.105(c)(1) of HUD's regulations (24 CFR 91.105(c)(1)) requires that any change in the use of CDBG funds from one eligible activity to another be treated as a substantial amendment. Given the urgency of the situation, the city requested to amend its plan.

Granted By: Mercedes M. Márquez, Assistant Secretary for Community Planning and Development.

Date Granted: May 24, 2010.

Reason Waived: Given the urgency of the snow emergency situation it faced, the city requested approval to amend its plan to include snow removal as a CDBG-funded activity. Section 104(a)(2)(E) of the Housing and Community Development Act of 1974, as amended, requires citizens to be provided notice and given the opportunity to comment on substantial changes that are proposed to be made in a grantee's Consolidated Plan's use of funds. However, the statute does not define the term “substantial change.” HUD's regulation at 24 CFR 91.105(c)(1) requires that any change in the use of CDBG funds from one eligible activity to another be treated as a substantial amendment. HUD has discretion in this case to waive this provision, given that this latter requirement is regulatory and not statutory. The amount of CDBG funds involved can be characterized as a de minimus level of money to be re-programmed. Thus, HUD accepted that the use of funds for snow removal in this emergency situation does not constitute a substantial amendment. HUD therefore waived the provisions of 24 CFR 91.105(c)(1) to the extent necessary to allow the city to determine that this reprogramming of funds does not constitute a substantial amendment.

Contact: Julia Neidecker Gonzales, Office of Block Grant Assistance, Office of Community Planning and Development, Entitlement Communities Division, 451 7th Street, SW., Room 7282, Washington, DC 20410-7000, telephone (202) 708-1577.

• Regulation: 24 CFR 91.500(d).

Project/Activity: Waiver of the 30-day period to review an amended Consolidated Plan.

Nature of Requirement: HUD's regulations at 24 CFR 91.500(d) provide that a jurisdiction may revise or resubmit a Consolidated Plan within 45 days after the first notification approval. This section further requires that HUD must respond to approve or disapprove the plan with 30 days of receiving the revisions or resubmission.

Granted By: Mercedes M. Márquez, Assistant Secretary for Community Planning and Development.

Date Granted: April 30, 2010.

Reason Waived: On January 15, 2010, HUD notified the city of Joliet that the city's 2010 Consolidated Plan was disapproved because the plan did not contain all certifications, satisfactorily completed, required as part of a complete Consolidated Plan submission under 24 CFR part 91. In accordance with HUD's regulations in 24 CFR 91.500(d), the city had until March 1, 2010, to revise and resubmit its Consolidated Plan submission. The city timely completed its revised submission on March 1, 2010, but HUD determined that it needed time beyond the 30-day review period to ensure that the certifications presented the assurances in a satisfactory manner that are required by HUD's regulations.

Contact: Julia Neidecker Gonzales, Office of Block Grant Assistance, Office of Community Planning and Development, Entitlement Communities Division, 451 7th Street, SW., Room 7282, Washington, DC 20410-7000, telephone (202) 708-1577.

• Regulation: 24 CFR 92.212(b).

Project Activity: Yakima County, WA HOME Consortium requested permission to permit it to incur administrative and planning costs prior to the submission of its Consolidated Plan.

Nature of Requirement: The HOME regulations at 24 CFR 92.104 requires all jurisdictions seeking designation as a participating jurisdiction (PJ) under the HOME program to submit a Consolidated Plan to HUD. Once the jurisdiction has complied with this and other requirements, HUD designates the jurisdiction as a HOME Participating Jurisdiction. Pursuant to § 92.212(b), PJs may not incur eligible administrative and planning pre-award costs until the beginning of the PJ's program year, or the date the Consolidated Plan is received by HUD, whichever is later. This provision precludes a jurisdiction that has not yet been designated as a HOME PJ from incurring pre-award costs for Consolidated Plan preparation and reimbursing itself when it receives its HOME allocation.

Granted By: Mercedes M. Márquez, Assistant Secretary, Community Planning and Development.

Date Granted: June 7, 2010.

Reason Waived: The Consortium requested a waiver of the pre-award cost provision to permit it to incur administrative and planning costs prior to the submission of its Consolidated Plan. The Consortium comprises a very rural, low-income area without substantial governmental resources. The Consortium members have limited funding to develop the required Consolidated Plan and would suffer a financial hardship without a waiver. A waiver of 24 CFR 92.212(b) would permit the Consortium to charge eligible administrative and planning costs related to the development of the Consolidated Plan to its first HOME allocation.

Contact: Virginia Sardone, Office of Affordable Housing Programs, Office of Community Planning and Development, Department of Housing and Urban Development, 451 7th Street, SW., Room 7158, Washington, DC 20410-7000, telephone 202-708-2470.

• Regulation: 24 CFR 92.252(e).

Project/Activity: Washington County, Oregon requested a waiver to reduce, by six months, the period of affordability of a fire damaged four bedroom facility that provided transitional housing for persons with mental illness in order to build 14 one-bedroom units of permanent supportive housing with a Section 811 Capital Advance.

Nature of Requirement: The HOME regulations at 24 CFR 92.252(e) requires that “HOME-assisted units meet the affordability for not less than the applicable period * * * beginning after project completion.”

Granted By: Mercedes M. Márquez, Assistant Secretary for Community Planning and Development.

Date Granted: June 16, 2010.

Reason Waived: HUD approved the waiver request because continuing the use of the project would create an unnecessary hardship on the non-profit and the tenants. The interests of the low-income community would be better served by facilitating construction of the new Section 811 project.

Contact: Virginia Sardone, Deputy Director, Office of Affordable Housing Programs, Office of Community Planning and Development, Department of Housing and Urban Development, 451 7th Street, SW., Room 7164, Washington, DC 20410-7000, telephone (202) 708-2470.

• Regulation: Notice of Allocations, Application Procedures, and Requirements for Homelessness Prevention and Rapid Re-Housing Program (HPRP) Grantees under the American Recovery and Reinvestment Act of 2009 (Recovery Act of 2009), issued March 19, 2009 (HPRP Notice).

Project/Activity: Homelessness Prevention and Rapid Re-Housing (HPRP) grantee, the State of Washington, requested a waiver of the requirement stating grantees may not directly carry out data collection and evaluation activities under HPRP.

Nature of Requirement: Subsection III.A. of the HPRP Notice provides that a State grantee must make available all of its formula allocation, except for an appropriate share of funds for administrative costs, to units of general local government and private nonprofit organizations in the State to carry out all eligible activities.

Granted By: Mercedes Márquez, Assistant Secretary for Community Planning and Development.

Date Granted: May 24, 2010.

Reason Waived: The grantee provided sufficient information for HUD to conclude the following: (1) The HMIS is already in place; (2) the HMIS is administered by the State of Washington; and (3) the alternative proposal of utilizing a fee structure to administer HMIS and meet the requirements in the Recovery Act would impose additional administrative burdens for the State.

Contact: Ann M. Oliva, Director, Office of Special Needs Programs, Office of Community Planning and Development, Department of Housing and Urban Development, 451 7th Street, SW., Room 7262, Washington, DC 20410-7000, telephone (202) 708-4300.

• Regulation: Notice of Allocations, Application Procedures, and Requirements for Homelessness Prevention and Rapid Re-Housing Program (HPRP) Grantees under the American Recovery and Reinvestment Act of 2009 (Recovery Act of 2009), issued March 19, 2009 (HPRP Notice).

Project/Activity: Homelessness Prevention and Rapid Re-Housing Program (HPRP) grantee, Adams County, Colorado requested a waiver of the limitation on eligible subgrantees in order to subgrant HPRP funds to the Adams County Housing Authority (ACHA).

Nature of Requirement: Subsections III.B. and III.C. of the HPRP Notice provides that metropolitan cities, urban counties, and territories may distribute all or part of their grant amounts to private non-profit organizations or another local government.

Granted By: Mercedes M. Márquez. Assistant Secretary for Community Planning and Development.

Date Granted: June 22, 2010.

Reason Waived: The grantee provided sufficient information for HUD to conclude the following: (1) HPRP participants would be selected in a manner that ensure ACHA residents are not unfairly selected over other eligible individuals and families; (2) utilizing the ACHA as a subgrantee would result in an efficient and effective program that benefits HPRP participants; and (3) the ACHA has proven capacity to serve homeless persons.

Contact: Ann M. Oliva, Director, Office of Special Needs Programs, Office of Community Planning and Development, Department of Housing and Urban Development, 451 7th Street, SW., Room 7262, Washington, DC 20410-7000, telephone (202) 708-4300.

• Regulation: Notice of Allocations, Application Procedures, and Requirements for Homelessness Prevention and Rapid Re-Housing Program (HPRP) Grantees under the American Recovery and Reinvestment Act of 2009 (Recovery Act of 2009), issued March 19, 2009 (HPRP Notice).

Project/Activity: Homelessness Prevention and Rapid Re-Housing Program (HPRP) grantee, the State of Minnesota Department of Human Services (MDHS), requested a waiver of the prohibition against placing HPRP participants in subsidized housing owned by the subgrantee, Anoka County Community Action Program (ACCAP).

Nature of Requirement: Subsections IV.A. of the HPRP Notice provides that HPRP financial assistance may not be used in connection with housing owned by the grantee, subgrantee, or the parent, subsidiary, or affiliated organization of the subgrantee.

Granted By: Mercedes M. Márquez, Assistant Secretary for Community Planning and Development.

Date Granted: May 12, 2010.

Reason Waived: The subgrantee provided sufficient information for HUD to conclude the following: (1) The use of the housing owned by AACAP was necessary to provide an adequate supply of appropriate housing options for HPRP participants; (2) AACAP had disclosed the conflict of interest; (3) ACCAP's attorney reviewed the conflict of interest and determined that the use of housing owned by the subgrantee would not violate State or local law; (4) HPRP participants would not be required or steered to live in AACAP's housing in order to receive financial or other assistance under HPRP; and (5) the use of the housing owned by AACAP would not result in any personal or financial gain for any employee of the grantee, subgrantee, or the parent, subsidiary, or affiliated organization of the subgrantee.

Contact: Ann M. Oliva, Director, Office of Special Needs Programs, Office of Community Planning and Development, Department of Housing and Urban Development, 451 7th Street, SW., Room 7262, Washington, DC 20410-7000, telephone (202) 708-4300.

• Regulation: Notice of Allocations, Application Procedures, and Requirements for Homelessness Prevention and Rapid Re-Housing Program (HPRP) Grantees under the American Recovery and Reinvestment Act of 2009 (Recovery Act of 2009), issued March 19, 2009 (HPRP Notice).

Project/Activity: Homelessness Prevention and Rapid Re-Housing Program (HPRP) grantee, Maine State Housing Authority (MSHA), requested a waiver of the prohibition against placing HPRP participants in subsidized housing owned by the subgrantee, York County Shelter Programs, Inc. (YCSPI).

Nature of Requirement: Subsection IV.A. of the HPRP Notice provides that HPRP financial assistance may not be used in connection with housing owned by the grantee, subgrantee, or the parent, subsidiary, or affiliated organization of the subgrantee.

Granted By: Mercedes M. Márquez, Assistant Secretary for Community Planning and Development.

Date Granted: April 7, 2010.

Reason Waived: The grantee provided sufficient information for HUD to conclude the following: (1) The use of the housing owned by YCSPI was necessary to provide an adequate supply of appropriate housing options for HPRP participants; (2) YCSPI had disclosed the conflict of interest; (3) MSHA's attorney reviewed the conflict of interest and determined that the use of the housing owned by the subgrantee would not violate State or local law; (4) HPRP participants would not be required or steered to live in YCSPI's housing in order to receive financial or other assistance under HPRP; and (5) the use of the housing owned by YCSPI would not result in any personal or financial gain for any employee of the grantee, subgrantee, or the parent, subsidiary, or affiliated organization of the subgrantee.

Contact: Ann M. Oliva, Director, Office of Special Needs Programs, Office of Community Planning and Development, Department of Housing and Urban Development, 451 7th Street, SW., Room 7262, Washington, DC 20410-7000, telephone (202) 708-4300.

• Regulation: Notice of Allocations, Application Procedures, and Requirements for Homelessness Prevention and Rapid Re-Housing Program (HPRP) Grantees under the American Recovery and Reinvestment Act of 2009 (Recovery Act of 2009), issued March 19, 2009 (HPRP Notice).

Project/Activity: Homelessness Prevention and Rapid Re-Housing Program (HPRP) grantee, the Spartanburg County Community & Economic Development Department, Spartanburg County, South Carolina, requested a waiver of the prohibition against placing HPRP participants in subsidized housing owned by the subgrantee, Upstate Homeless Coalition of South Carolina (UHCSC).

Nature of Requirement: Subsection IV.A. of the HPRP Notice provides that HPRP financial assistance may not be used in connection with housing owned by the grantee, subgrantee, or the parent, subsidiary, or affiliated organization of the subgrantee.

Granted By: Mercedes M. Márquez, Assistant Secretary for Community Planning and Development.

Date Granted: May 12, 2010.

Reason Waived: The grantee provided sufficient information for HUD to conclude the following: (1) The use of the housing owned by UHCSC was necessary to provide an adequate supply of appropriate housing options for HPRP participants; (2) UHCSC had disclosed the conflict of interest; (3) UHCSC's attorney reviewed the conflict of interest and determined that the use of the housing owned by UHCSC would not violate State or local law; (4) HPRP participants would not be required or steered to live in UHCSC's housing in order to receive financial or other assistance under HPRP; and (5) the use of the housing owned by UHCSC would not result in any personal or financial gain for any employee of the grantee, subgrantee, or the parent, subsidiary, or affiliated organization of the subgrantee.

Contact: Ann M. Oliva, Director, Office of Special Needs Programs, Office of Community Planning and Development, Department of Housing and Urban Development, 451 7th Street, SW., Room 7262, Washington, DC 20410-7000, telephone (202) 708-4300.

II. Regulatory Waivers Granted by the Office of Housing—Federal Housing Administration (FHA)

For further information about the following regulatory waivers, please see the name of the contact person that immediately follows the description of the waiver granted.

• Regulation: 24 CFR 202.3(a)(3).

Project/Activity: All FHA Approved Title II Mortgagees

Nature of Requirement: This regulation subsection contains the requirements for principal—authorized agent relationship originations of FHA single family loans. It was revised by a May 20, 2010, final rule to require: (1) Both mortgagees to have unconditional direct endorsement approval, (2) the principal mortgagee originate the loan, and (3) the authorized agent mortgagee underwrites the loan.

Granted By: David H. Stevens, Assistant Secretary for Housing—Federal Housing Commissioner.

Date Granted: June 11, 2010 by issuance of Mortgagee Letter 2010-20.

Reason Waived: The effective date of the May 20, 2010, was delayed to allow mortgagees sufficient time to meet the new requirement that they must have unconditional direct endorsement approval and for FHA to make changes to the single family loan origination system to comply with the revised regulations.

Contact: Richard G. Toma, Deputy Director, Office of Lender Activities and Program Compliance, Office of Housing, Department of Housing and Urban Development, 451 7th Street, SW., Room P3214, Washington, DC 20410-8000, telephone (202) 708-1515.

• Regulation: 24 CFR 202.8(b)(3).

Project/Activity: FHA Approved Title I and Title II Nonsupervised Loan Correspondents with fiscal years ending on or after December 31, 2009.

Nature of Requirement: A HUD May 20, 2010, final rule removed the annual renewal requirement for nonsupervised loan correspondent previously in 24 CFR 202.8(b)(3) and replaced them with a provision in the revised 24 CFR 208.8(c) which allows loan correspondents that are currently FHA-approved as of the May 20, 2010, effective date of the final rule to maintain their FHA approval through December 31, 2010. Any loan correspondent that had not met the old annual renewal requirements by May 20, 2010, were still subject to the prior annual renewal requirement of paying the annual renewal fee, submitting audited financial statements and completing the annual certification report. A waiver of the requirement to submit audited financial statements was made for all nonsupervised loan correspondents whose fiscal year ended on or after December 31, 2009, who were otherwise in good standing with the Department.

Granted By: David H. Stevens, Assistant Secretary for Housing—Federal Housing

Commissioner.

Date Granted: June 11, 2010 by issuance of Mortgagee Letter 2010-20.

Reason Waived: The Department determined that requiring submission of audited financial statements, and the costs associated with such a requirement, would place an unreasonable burden on loan correspondents, especially in light of the fact that their approval would only continue for less than one year.

Contact: Richard G. Toma, Deputy Director, Office of Lender Activities and Program Compliance, Office of Housing, Department of Housing and Urban Development, 451 7th Street, SW., P3214, Washington, DC 20410-8000, telephone (202) 708-1515.

• Regulation: 24 CFR 219.220(b).

Project/Activity: M. L. King, Jr. Apartments, Seattle, Washington—FHA Project Number 127-35004. The owner is requesting to defer repayment of the Flexible Subsidy Operating Assistance Loan on this project to give the owner a longer term to pay off the loan.

Nature of Requirement: Section 219.220(b) governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.

Granted By: David H. Stevens, Assistant Secretary for Housing—Federal Housing Commissioner.

Date Granted: April 5, 2010.

Reason Waived: The owner requested waiver of the requirement to defer repayment of the Flexible Subsidy Operating Assistance Loan because the project did not have sufficient funds to repay the loan at maturity of the mortgage. Permission was granted because the owner is in compliance with all business agreements with HUD and has met required HUD standards. The loan was reamortized and interest has been deferred over a 25-year period. The owner has recorded a Use Agreement for the 25-year period allowing the project to remain as vital affordable housing for the area.

Contact: Robert G. Iber, Acting Director, Office of Asset Management, Department of Housing and Urban Development, 451 7th Street, SW., Washington, DC 20410-7000, telephone: (202) 708-3730, extension 7538.

• Regulation: 24 CFR 219.220(b).

Project/Activity: Friendship Terrace, FHA No. 000-SH0001/Pre 1974. The owner requested permission to defer repayment of the Flexible Subsidy loan on this project. The deferral would enable urgent repairs and rehabilitation to be completed for revitalization of the project.

Nature of Requirement: Section 219.220(b) of HUD's regulations govern the repayment of operating assistance provided under the Flexible Subsidy Program for Troubled Projects prior to May 1, 1996, and states: “Assistance that has been paid to a project owner under this subpart must be repaid at the earlier of the expiration of the mortgage, or sale of the project * * *” Either of these actions would typically terminate FHA involvement with the property, and the Flexible Subsidy Loan would be repaid, in whole, at that time.

Granted By: Ronald Y. Spraker, Associate General Deputy Assistant Secretary for Housing.

Date Granted: May 20, 2010.

Reason Waived: This regulation was waived in order to exempt Episcopal Church Home, Friendship, Incorporated, from the requirement to repay the Flexible Subsidy Operating Assistance Loan upon prepayment/refinancing of the loan; thereby allowing financing to rehabilitate the property and ensure preservation of the project as an affordable housing resource.

Contact: Robert G. Iber, Acting Director, Office of Asset Management, Department of Housing and Urban Development, 451 7th Street, SW., Washington, DC 20410-7000, telephone: (202) 708-3730, extension 7538.

• Regulation: 24 CFR 219.220(b).

Project/Activity: Faush-Metropolitan Manor (Jefferson County), FHA No. 062-EH022. The owner requested permission to continue deferral of repayment of the Flexible Subsidy loan on this project, following a one-year deferral granted on March 27, 2009. The deferral would enable improved security upgrades for the elderly residents of the project.

Nature of Requirement: Section 219.220(b) of HUD's regulations govern the repayment of operating assistance provided under the Flexible Subsidy Program for Troubled Projects prior to May 1, 1996, and states: “Assistance that has been paid to a project owner under this subpart must be repaid at the earlier of the expiration of the mortgage, or sale of the project * * *” Either of these actions would typically terminate FHA involvement with the property, and the Flexible Subsidy Loan would be repaid, in whole, at that time.

Granted By: David H. Stevens, Assistant Secretary for Housing—Federal Housing

Commissioner.

Date Granted: May 28, 2010.

Reason Waived: This regulation was waived in order to extend the exemption of Faush Metropolitan Manor, Incorporated, from the requirement to repay the Flexible Subsidy Operating Assistance Loan upon prepayment/refinancing of the loan; thereby allowing improved security upgrades for the elderly residents of the project.

Contact: Robert G. Iber, Acting Director, Office of Asset Management, Department of Housing and Urban Development, 451 7th Street, SW., Washington, DC 20410-7000, telephone: (202) 708-3730, extension 7538.

• Regulation: 24 CFR 290.30(a).

Project/Activity: The Winery Apartments, Fresno, California—FHA Project Number 121-35490A. The owner has requested a waiver to allow the Department of HUD to sell the current unsubsidized mortgage loan on a non-competitive basis.

Nature of Requirement: HUD's regulations governing the sale of HUD-Held mortgages are set forth in 24 CFR part 290, subpart B. Section 290.30(a) of those regulations state that “[e]xcept as otherwise provided in Section 290.31(a)(2), HUD will sell HUD-Held multifamily mortgages on a competitive basis.” Section 290.31(a)(2) permits “negotiated” sales to State or local governments for mortgage loans that are current and secured by subsidized projects, provided such loans are sold with FHA insurance.

Granted By: David H. Stevens, Assistant Secretary for Housing—Federal Housing Commissioner.

Date Granted: June 30, 2010.

Reason Waived: This regulation was waived in order to allow the sale of The Winery Apartments to the California Housing Finance Agency. Sale to a profit-motivated purchaser could have placed demands on the property in order to obtain a return on its investment and given the thin operating margins at the project, demands could lead to a foreclosure of the Note and loss of this much-needed low-income housing.

Contact: Robert G. Iber, Acting Director, Office of Asset Management, Department of Housing and Urban Development, 451 7th Street, SW., Washington, DC 20410-7000, telephone (202) 708-3730, extension 7538.

• Regulation: 24 CFR 236.725.

Project/Activity: New Vista I Apartments, Chicago, Illinois—FHA Project Number 071-031NI. A Decoupling proposal was made by the owner to pay off the Section 236 non-insured mortgage, continue Interest Reduction Payments and complete redevelopment of the property.

Nature of Requirement: Section 236.725 of HUD's regulations limits the term of the rental assistance contract to the term of the mortgage or 40 years from the date of the first payment made under the contract, whichever is the lesser.

Granted By: David H. Stevens, Assistant Secretary for Housing-Federal Housing Commissioner.

Date Granted: April 29, 2010.

Reason Waived: This regulation waiver was approved to allow for continuance of the Rental Assistance Payments contract and to refinance its Section 236 non-insured mortgage. The waiver is predicated on the project entering into a new recorded Use Agreement restricting the project to be operated under the Section 236 mortgage plus an additional statutorily mandated five years. The preservation of this affordable housing project will thereby continue until 2021.

Contact: Robert G. Iber, Acting Director, Office of Asset Management, Department of Housing and Urban Development, 451 7th Street, SW., Washington, DC 20410-7000, telephone (202) 708-3730, extension 7538.

• Regulation: 24 CFR 236.725.

Project/Activity: Shalom Towers Apartments, Newark, New Jersey—FHA Project Number 031-072NI. The owner has requested waiver of this regulation to permit continuation of Rent Assistance Payments after prepayment of the non-insured Section 236 mortgage.

Nature of Requirement: Section 236.725 of HUD's regulations limits the term of the rental assistance contract to the term of the mortgage or 40 years from the date of the first payment made under the contract, whichever is the lesser.

Granted By: David H. Stevens, Assistant Secretary for Housing—Federal Housing Commissioner.

Date Granted: April 29, 2010.

Reason Waived: Granting waiver of this regulation will provide stability of the project-based rental assistance and enhance the long-term financial feasibility through the proposed rehabilitation and refinancing of the property. The waiver will also allow the current tenants to remain and the property to be preserved as a low-income housing resource through 2021.

Contact: Robert G. Iber, Acting Director, Office of Asset Management, Department of Housing and Urban Development, 451 Seventh Street, SW., Washington, DC 20410-7000, telephone (202) 708-3730, extension 7538.

• Regulation: 24 CFR 883.308(d).

Project/Activity: Treemont Apartments, Buena Vista, Virginia—Section 8 Contract number VA36HO27229. The owner has requested waiver of the regulation requiring that Section 8 Contract Rents be reduced if debt service on the permanent project financing is reduced below the debt service on which the rents were based. The owner proposes to acquire and renovate the project.

Nature of Requirement: Section 883.308 of HUD's regulations governs the reduction of contract rents for in projects financed under the Section 8 Housing Assistance Payments Program for State Housing Agencies. The regulation states: “If the actual debt service to the owner under the permanent financing is lower than the anticipated debt service on which the Contract Rents were based, the initial Contract Rents, or the Contract Rents currently in effect, must be reduced commensurately, and the amount of the savings credited to the project account.”

Granted By: David H. Stevens, Assistant Secretary for Housing—Federal Housing Commissioner.

Date Granted: April 16, 2010.

Reason Waived: This waiver was granted in order to allow the owner, who is a developer of affordable housing, to acquire and renovate the project with benefit of new loans at reduced interest rates and Low Income Housing Tax Credits. They plan to request a new Housing Assistance Payments Contract and comply with a Use Agreement requirement, maintaining the property for 50 years as much needed affordable housing.

Contact: Robert G. Iber, Acting Director, Office of Asset Management, Department of Housing and Urban Development, 451 Seventh Street, SW., Washington, DC 20410-7000, telephone (202) 708-3730, extension 7538.

• Regulation: 24 CFR 891.100(d).

Project/Activity: Robertson Hill Apartments, Raleigh, NC, Project Number: 053-HD245/NC19-Q081-005.

Nature of Requirement: Section 891.100(d) prohibits amendment of the amount of the approved capital advance funds prior to closing.

Granted By: David H. Stevens, Assistant Secretary for Housing—Federal Housing Commissioner.

Date Granted: April 14, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: North Highlands VOA Living Center, North Highlands, CA, Project Number: 136-HD019/CA30-Q061-001.

Nature of Requirement: Section 891.100(d) prohibits amendment of the amount of the approved capital advance funds prior to closing.

Granted By: David H. Stevens, Assistant Secretary for Housing—Federal Housing Commissioner.

Date Granted: May 13, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Mosaic Housing XX, Garden City, Garden City, KS, Project Number: 102-HD040/KS16-Q081-001.

Nature of Requirement: Section 891.100(d) prohibits amendment of the amount of the approved capital advance funds prior to closing.

Granted By: David H. Stevens, Assistant Secretary for Housing—Federal Housing Commissioner.

Date Granted: May 21, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: St. John's Commons, Havre de Grace, MD, Project Number: 052-EE058/MD06-Q071-002.

Nature of Requirement: Section 891.100(d) prohibits amendment of the amount of the approved capital advance funds prior to closing.

Granted By: David H. Stevens, Assistant Secretary for Housing—Federal Housing Commissioner.

Date Granted: May 21, 2010.

Reason Waived: The project is economically designed and comparable in cost to similar projects in the area, and the sponsor/owner exhausted all efforts to obtain additional funding from other sources.

Contact: Willie Spearmon, Director, Office of Housing Assistance and Grant Administration, Department of Housing and Urban Development, 451 7th Street, SW., Washington, DC 20410-8000, telephone (202) 708-3000.

• Regulation: 24 CFR 891.100(d).

Project/Activity: Mapleway Achievement Center, Monmouth, IL, Project Number: 072-HD156/IL06-Q081-004.

Nature of Requirement: Section 891.100(d) prohibits amendment of the amount of the approved capital advance funds prior to closing.

Granted By: David H. Stevens, Assistant Secretary for Housing—Federal Housing Commissioner.

Date Granted: May 27, 2010.

Reason Waived: The project is economically designed and comparable in cost to similar projects in the area, and the sponsor/owner exhausted all efforts to obtain additional funding from other sources.

Contact: Willie Spearmon, Director, Office of Housing Assistance and Grant Administration, Department of Housing and Urban Development, 451 7th Street, SW., Room 6130, Washington, DC 20410-8000, telephone (202) 708-3000.

• Regulation: 24 CFR 891.100(d).

Project/Activity: St. Augustine Manor, New Iberia, LA, Project Number: 064-EE229/LA48-S081-007.

Nature of Requirement: Section 891.100(d) prohibits amendment of the amount of the approved capital advance funds prior to closing.

Granted By: David H. Stevens, Assistant Secretary for Housing—Federal Housing Commissioner.

Date Granted: June 9, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Chadwick Place II, Marion, OH, Project Number: 043-EE123/OH16-S081-002.

Nature of Requirement: Section 891.100(d) prohibits amendment of the amount of the approved capital advance funds prior to closing.

Granted By: David H. Stevens, Assistant Secretary for Housing—Federal Housing Commissioner.

Date Granted: June 11, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: New Meadow Elderly Housing, Newington, CT, Project Number: 017-EE102/CT26-S081-003.

Nature of Requirement: Section 891.100(d) prohibits amendment of the amount of the approved capital advance funds prior to closing.

Granted By: David H. Stevens, Assistant Secretary for Housing—Federal Housing Commissioner.

Date Granted: June 16, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Sueno Real Apartments, Arroyo, PR, Project Number: 056-HD031/RQ46-Q061-001.

Nature of Requirement: Section 891.100(d) prohibits amendment of the amount of the approved capital advance funds prior to closing.

Granted By: David H. Stevens, Assistant Secretary for Housing—Federal Housing Commissioner.

Date Granted: June 25, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Grace Place Retirement Community, Memphis, TN, Project Number: 081-EE045/TN40-S081-002.

Nature of Requirement: Section 891.100(d) prohibits amendment of the amount of the approved capital advance funds prior to closing.

Granted By: David H. Stevens, Assistant Secretary for Housing—Federal Housing Commissioner.

Date Granted: June 25, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d) and 24 CFR 891.165.

Project/Activity: Fillmore Haciendas, Phoenix, AZ, Project Number: 123-EE105/AZ20-S071-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: David H. Stevens, Assistant Secretary for Housing—Federal Housing Commissioner.

Date Granted: May 13, 2010.

Reason Waived: The project is economically designed and comparable in cost to similar projects in the area, and the sponsor/owner exhausted all efforts to obtain additional funding from other sources and additional time was needed to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.100(d) and 24 CFR 891.165.

Project/Activity: RJ Piltz Vista Bonita Apartments, Mesa, AZ, Project Number: 123-HD041/AZ20-Q061-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: David H. Stevens, Assistant Secretary for Housing—Federal Housing Commissioner.

Date Granted: May 21, 2010.

Reason Waived: The project is economically designed and comparable in cost to similar projects in the area, and the sponsor/owner exhausted all efforts to obtain additional funding from other sources and additional time was needed for issuance of the firm commitment and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.100(d) and 24 CFR 891.165.

Project/Activity: Independence Place, Conroe, TX, Project Number: 114-HD039/TX24-Q071-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: David H. Stevens, Assistant Secretary for Housing—Federal Housing Commissioner.

Date Granted: June 11, 2010.

Reason Waived: The project is economically designed and comparable in cost to similar projects in the area, and the sponsor/owner exhausted all efforts to obtain additional funding from other sources and additional time was needed for additional funds to be approved, issuance of the firm commitment and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: The Warren Project, Warren, NJ, Project Number: 031-HD154/NJ39-Q071-003.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: April 14, 2010.

Reason Waived: Additional time was needed for the initial closing documents to be updated and corrected and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Oakridge Park Apartments, Lake Oswego, OR, Project Number: 126-EE059/OR16-S061-002.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: April 14, 2010.

Reason Waived: Additional time was needed for the sponsor/owner to reapply for tax credit funding for the mixed finance project and for the project to be initially closed.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Parkside Apartments, Terra Alta, WV, Project Number: 045-EE031/WV15-S071-002.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: April 16, 2010.

Reason Waived: Additional time was needed for the firm commitment to be processed and for the project to reach an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Villa Serena, Chico, CA, Project Number: 136-HD021/CA30-Q071-001.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: April 26, 2010.

Reason Waived: Additional time was needed for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Odd Fellows Senior Housing, Bronx, NY, Project Number: 012-EE351/NY36-S061-007.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: April 26, 2010.

Reason Waived: Additional time was needed for the initial closing documents to be reviewed by HUD and for the project to be initially closed.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Cedar Street Apartments, Redwood City, CA, Project Number: 121-HD090/CA39-Q071-002.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: May 13, 2010.

Reason Waived: Additional time was needed to resolve an environmental issue involving noise, for the firm commitment to be issued and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Harrison Street Senior Housing, Oakland, CA, Project Number: 121-EE204/CA39-S071-008.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: May 21, 2010.

Reason Waived: Additional time was needed for the sponsor/owner to obtain low income housing tax credit and tax exempt bond, commitment and submit missing exhibits for the firm commitment and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Five Talents Apartments, Lexington, MS, Project Number: 065-HD044/MS26-Q081-001.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: May 21, 2010.

Reason Waived: Additional time was needed to issue and submit the firm commitment application.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: San Marino Apartments, Montclair, CA, Project Number: 143-EE062/CA43-S061-001.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: May 27, 2010.

Reason Waived: Additional time was needed for the sponsor/owner to submit the cost certification documents for this mixed finance project to reach an initial/final closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Orchard Housing, Orchard Park, NY, Project Number: 014-EE266/NY06-S071-002.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: May 28, 2010.

Reason Waived: Additional time was needed for the sponsor/owner to resolve a re-zoning issue with the town and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: St. Joseph Place, Kansas City, MO, Project Number: 084-EE073/MO16-S071-002.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: June 17, 2010.

Reason Waived: Additional time was needed for amendment of the disposition approval for the project site to be processed and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Hamilton Heartwood Homes, Columbus, OH, Project Number: 046-HD036/OH10-Q071-001.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: June 17, 2010.

Reason Waived: Additional time was needed for the sponsor/owner to resolve site control issues with the City of Hamilton, obtain additional funds, and for the project to reach an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Council Towers VI Senior Housing, Queens, NY, Project Number: 012-EE360/NY36-S071-006.

Nature of Requirement: Section 891.165 provides that the duration of the fund reservation of the capital advance is 18 months from the date of issuance with limited exceptions up to 24 months, as approved by HUD on a case-by-case basis.

Granted By: David H. Stevens, Assistant Secretary for Housing—Federal Housing Commissioner.

Date Granted: June 28, 2010.

Reason Waived: Additional time was needed for completion of the sale of tax exempt bonds by the New York City Housing Development Corporation (NYCHDC) and for the project to reach an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165, 24 CFR 891.830(b) and 24 CFR 891.830(c)(4).

Project/Activity: Peralta Senior Housing, Fremont, CA, Project Number: 121-EE205/CA39-S081-001.

Nature of Requirement: Section 891.165 provides that the duration of the fund reservation of the capital advance is 18 months from the date of issuance with limited exceptions up to 24 months, as approved by HUD on a case-by-case basis. Section 891.830(b) allows the capital advance funds be drawn down only in an approved ratio to other funds, in accordance with draw down schedule approved by HUD. Section 891.830(c)(4) permits the capital advance drawn down will be used only for eligible costs actually incurred in accordance with the provisions of this subpart and the approved mixed-finance project. Section 891.830(c)(5) allows the amount of the draw down is consistent with the ratio of 202 or 811 supportive housing units to other units.

Granted By: David H. Stevens, Assistant Secretary for Housing—Federal Housing Commissioner.

Date Granted: June 7, 2010.

Reason Waived: Additional time was needed for issuance of the firm commitment, construction of the project and for initial/final closing of this capital advance upon completion of project. Also, to allow the capital advance to be drawn down in one requisition to pay off that portion of the financing that strictly relate to capital advance eligible costs after completion of construction at initial/final closing.

Contact: Willie Spearmon, Director, Office of Housing Assistance and Grant Administration, Office of Housing, Department of Housing and Urban Development, 451 7th Street, SW., Room 6130, Washington, DC 20410-8000, telephone (202) 708-3000.

• Regulation: 24 CFR 891.830(c)(4).

Project/Activity: Village at St. Peter's, Pleasantville, NJ, Project Number: 035-EE053/NJ39-S071-001.

Nature of Requirement: Section 891.830(c)(4) prohibits the capital advance funds from paying off bridge or construction financing, or repaying or collateralizing bonds.

Granted By: David H. Stevens, Assistant Secretary for Housing—Federal Housing Commissioner.

Date Granted: June 7, 2010.

Reason Waived: The waiver was granted to permit capital advance funds to be used to pay off that portion of the financing that strictly relate to capital advance eligible costs.

Contact: Willie Spearmon, Director, Office of Housing Assistance and Grant Administration, Office of Housing, Department of Housing and Urban Development, 451 7th Street, SW., Room 6130, Washington, DC 20410-8000, telephone (202) 708-3000.

• Regulation: 24 CFR 891.830(c)(4).

Project/Activity: Council Towers VI Senior Housing, Queens, NY, Project Number: 012-EE360/NY36-S071-006.

Nature of Requirement: Section 891.830(c)(4) prohibits the capital advance funds from paying off bridge or construction financing, or repaying or collateralizing bonds.

Granted By: David H. Stevens, Assistant Secretary for Housing—Federal Housing Commissioner.

Date Granted: June 7, 2010.

Reason Waived: The waiver was granted to permit capital advance funds to be used to pay off that portion of the financing that strictly relate to capital advance eligible costs.

Contact: Willie Spearmon, Director, Office of Housing Assistance and Grant Administration, Office of Housing, Department of Housing and Urban Development, 451 7th Street, SW., Room 6130, Washington, DC 20410-8000, telephone (202) 708-3000.

• Regulation: ML 2009-46 B (Baseline Condo Guidance—ML serves as regulation as defined under the Housing and Economic Recovery Act (HERA)).

Project/Activity: Blanket Waiver for all FHA-approved lenders.

Nature of Requirement: ML 2009-46 B requires homeowner (HO)-6 insurance coverage for individual condominium units when the project Master Policy does not include interior unit coverage. HO-6 coverage is a “walls-in” policy that protects the interior improvements and betterments in the event of perils such as bad weather, fire, explosion, and theft. HO-6 policies also generally cover improvements made, including private balconies or entrances, special fixtures or other additions to the property not covered by the Master Policy.

Granted By: David H. Stevens, Assistant Secretary for Housing—Federal Housing Commissioner.

Date Granted: April 29, 2010.

Reason Waived: FHA-approved lenders' information technology (IT) infrastructure, including processing and underwriting systems do not currently accommodate for collection and management of this data. FHA-approved lenders advise HUD that any attempts to solve the problem immediately would pose significant risks that could ultimately lead to unsalable or uninsurable loans to FHA. Without the waiver, lenders would have to discontinue the condominium program; thereby, affecting purchasers who intend to purchase a condominium unit and will diminish affordable housing opportunities. The sale of condominium units was determined to be vital to the recovery of the housing market.

Contact: Joanne B. Kuczma, Housing Program Officer, Office of Single Family Program Development, Office of Housing, Department of Housing and Urban Development, 451 7th Street, SW., Room 9266, Washington, DC 20410-8000, telephone (202) 708-2121.

• Regulation: ML 2009-46 B (Baseline Condo Guidance—ML serves as regulation as defined under HERA).

Project/Activity: Taconic Investment, Meadow Wood at Gateway Condominium Project, Brooklyn, New York.

Nature of Requirement: ML 2009-46 B requires that no more than ten (10) percent of the units may be owned by one investor. Previously, the ten (10) percent investor ownership limitation only applied to FHA's “spot loan” approval process, permitted under 24 CFR 234.26(i). This limitation also applies to builders/developers that subsequently rent vacant and unsold units.

Granted By: David H. Stevens, Assistant Secretary for Housing—Federal Housing Commissioner.

Date Granted: May 21, 2010.

Reason Waived: In New York City, tenants are protected under the Rent Stabilization Law. Issuance of the waiver was determined to allow for lenders to continue making FHA-insured loans in the condominium; posed a low risk to the Mutual Mortgage Insurance (MMI) fund; was determined important due to the critical need for additional affordable housing in New York City; and would not violate any statutory requirements.

Contact: Joanne B. Kuczma, Housing Program Officer, Office of Single Family Program Development, Office of Housing, Department of Housing and Urban Development, 451 7th Street, SW., Room 9266, Washington, DC 20410-8000, telephone (202) 708-2121.

• Regulation: ML 2009-46 B (Baseline Condo Guidance—ML serves as regulation as defined under HERA).

Project/Activity: Taconic Investment, Meadow Wood at Gateway Condominium Project, Brooklyn, New York.

Nature of Requirement: ML 2009-46 B requires that no more than ten (10) percent of the units may be owned by one investor. Previously, the ten (10) percent investor ownership limitation only applied to FHA's “spot loan” approval process, permitted under 24 CFR 234.26(i). This limitation also applies to builders/developers that subsequently rent vacant and unsold units.

Granted By: David H. Stevens, Assistant Secretary for Housing—Federal Housing Commissioner.

Date Granted: May 21, 2010.

Reason Waived: In New York City, tenants are protected under the Rent Stabilization Law. Issuance of the waiver was determined to allow for lenders to continue making FHA-insured loans in the condominium; posed a low risk to the Mutual Mortgage Insurance (MMI) fund; was determined important due to the critical need for additional affordable housing in New York City; and would not violate any statutory requirements.

Contact: Joanne B. Kuczma, Housing Program Officer, Office of Single Family Program Development, Office of Housing, Department of Housing and Urban Development, 451 7th Street, SW., Room 9266, Washington, DC 20410-8000, telephone (202) 708-2121.

III. Regulatory Waivers Granted by the Office of Public and Indian Housing

For further information about the following regulatory waivers, please see the name of the contact person that immediately follows the description of the waiver granted.

• Regulation: 24 CFR 5.216(b).

Project/Activity: Louisiana Housing Authority (LHA), LA.

Nature of Requirement: HUD's regulation at 24 CFR 5.216(b) requires that applicants submit Social Security Numbers while eligibility is being determined.

Granted By: Sandra B. Henriquez, Assistant Secretary for Public and Indian Housing.

Date Granted: June 17, 2010.

Reason Waived: Vital records of many of the individuals to be served were destroyed by the hurricanes and in some instances the offices where this information was maintained were also destroyed. As a result, there were delays in obtaining these documents.

Contact: Laure Rawson, Acting Director, Housing Voucher Management and Operations Division, Office of Public Housing and Voucher Programs, Office of Public and Indian Housing, Department of Housing and Urban Development, 451 7th Street, SW., Room 4210, Washington, DC 20410-500, telephone (202) 708-0477.

• Regulation: 24 CFR 902.40.

Project/Activity: Phillipsburg Housing Authority, (KS036), Phillipsburg, KS.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 6, 2010.

Reason Waived: The HA requested a waiver of the Transition Year 2 management operations certification requirements under the Management Assessment Subsystem (MASS) indicator for fiscal year ending September 30, 2009, because the HA was not confident that it could accurately comply or replicate the requested information to meet the requirements of the regulation and believed that any attempt to do so would likely result in inaccurate data and incorrect submission. The waiver was granted for fiscal year ending September 30, 2009. Consequently, the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Leon Housing Authority, (IA027), Leon, IA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 6, 2010.

Reason Waived: The HA requested a waiver of the Transition Year 2 management operations certification requirements under the Management Assessment Subsystem (MASS) indicator for fiscal year ending September 30, 2009, because the HA had neither a viable method for reconstructing the data, nor the staff resources to devote to this task given other program requirements. The waiver was granted for fiscal year ending September 30, 2009. Consequently, the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Hillsboro Housing Authority, (KS096), Hillsboro, KS.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 6, 2010.

Reason Waived: The HA requested a waiver of the Transition Year 2 management operations certification requirements under the Management Assessment Subsystem (MASS) indicator for fiscal year ending September 30, 2009, because the HA's effort to replicate the data needed for an accurate management operations certification would result in an administrative burden as the HA no longer had a viable method for reconstructing the data. The waiver was granted for fiscal year ending September 30, 2009. Consequently, the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Brunswick Housing Authority, (GA009), Brunswick, GA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 09, 2010.

Reason Waived: The HA contends that it acquired a new business system to capture the relevant data required for its conversion to asset management. To complete the Management operations certification requirement under the old system would impose an administrative burden. The waiver was granted for fiscal year ending June 30, 2009, and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority of the City of Iola, (KS049), Iola, KS.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 12, 2010.

Reason Waived: The HA contends that it revised its manual system to capture relevant data required for its conversion to asset management, and no longer had a viable method for reconstructing the data. The HA's action would result in an administrative burden in an effort to replicate the data needed for accurate management operations certification. The waiver was granted for fiscal year ending March 31, 2010, and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Washington County Housing Authority, (PA017), Washington, PA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 16, 2010.

Reason Waived: The HA contends that it requested a waiver due to resulting hardship created by an extensive reorganization of personnel, procedures, staffing and on-going modification of its computer software to facilitate reporting in its conversion to asset management. The waiver was granted for fiscal year ending September 30, 2010, and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Altoona Housing Authority, (PA031), Washington, PA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 16, 2010.

Reason Waived: The HA requested a waiver of the Transition Year 2 management operations certification requirements under the Management Assessment Subsystem (MASS) indicator for fiscal year ending June 30, 2009, because the HA converted its public housing operations to asset management and had its staff attend the HUD asset management training workshops, provided in house-training, and implemented new software to convert all of their housing data to the new system. Reconstructing the current management operations certification data would impose an administrative hardship for the PHA. Consequently, the waiver was granted for fiscal year ending June 30, 2009, and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority of Clackamas County, (OR001), Oregon City, OR.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 20, 2010.

Reason Waived: The HA contends that it has been fine tuning its internal systems in order to accurately track and report progress in meeting requirements based on the expectation that a PHAS III Final rule would be published by the end of the transition year. The waiver was granted for fiscal year ending June 30, 2009, and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority of New Orleans (LA001), New Orleans, LA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 28, 2010.

Reason Waived: The HA contends that it recently underwent an in-depth assessment of its operations and identified significant deficiencies in the areas of housing management, maintenance, finance and management information systems. The assessment confirmed that internal recordkeeping and reporting systems were insufficient to produce accurate, comprehensive data necessary to complete a management operations certification. The waiver was granted for fiscal year ending September 30, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority City of Dell (AR078), Dell, AR.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 28, 2010.

Reason Waived: The HA requested a waiver because it (1) operates fourteen public housing units managed by a part-time manager, (2) was not converting to asset management and (3) had not maintained adequate records and documentation to submit its management operations certification. The waiver was granted because the HA has fewer than 400 public housing units, and the HA had not maintained adequate records and documentation sufficient to comply with the requirements of 24 CFR 902.40 and 24 CFR 902.43, subpart D. Compiling the data necessary to meet the requirements of Subpart D would impose an administrative hardship. The most recent management operations score of record would be carried over for the fiscal year ending December 31, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority City of Augusta (GA001), Augusta, GA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 28, 2010.

Reason Waived: The HA contends that it converted to asset management, completed its staffing reorganization, updated its job descriptions and has been conducting on-going staff training in preparation for the new roles under asset management. Additionally, the HA reported it has been developing computer software to comply with the new reporting requirements. Retrieving the data needed for an accurate management operations certification would result in an administrative hardship. The waiver was granted because the HA needed the time to complete the conversion to asset management. Therefore, the most recent management operations score of record would be carried over for fiscal year ending March 31, 2010.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority City of Newnan (GA095), Newnan GA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 29, 2010.

Reason Waived: The HA contends that it converted to asset management, established three Asset Management Projects (AMPS) with a project manager for each AMP, and adopted project-based budgeting for each AMP. The HA also established a Central Office Cost Center (COCC) and has been developing its software systems, reporting procedures and internal controls in order to further enhance the conversion to asset management. The waiver was granted because to interrupt the HA's progress and require submission of a management operations certification would impose an administrative hardship. The most recent management operations score of record would be carried over for the fiscal year ending June 30, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Jefferson Metropolitan Housing Authority, (OH014), Steubenville, OH.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 30, 2010.

Reason Waived: The HA contends that it divided its operations into three Asset Management Projects (AMPS) and decentralized maintenance and purchasing activities. As a result, the HA no longer tracks management operations information. The waiver was granted because to submit a management operations certification would impose an administrative hardship. The most recent management operations score of record would be carried for fiscal year ending December 31, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority of the County of Los Angeles, (CA002), Monterey Park, CA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 30, 2010.

Reason Waived: The HA contends that it initiated asset management on July 1, 2007, and decentralized budget, accounting and its management systems for its housing developments including a new management software system. The waiver was granted because to submit a management operations certification would require re-programming the current software and reconciling data from prior software system. This would result in increased costs and create an administrative hardship. Consequently, the most recent management operations score of record would be carried over for the fiscal year ending June 30, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Tacoma Housing Authority, (WA005), Tacoma, WA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 30, 2010.

Reason Waived: The HA contends that it initiated asset management on July 1, 2008, and converted to a new management software system for tracking its operations on a property versus agency basis. The waiver was granted because to submit a management operations certification would require site staff to manually track the information and would result in administrative hardship. The most recent management operations score of record would be carried over for fiscal year ending June 30, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Fayette County Housing Authority, (PA015), Uniontown, PA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: April 30, 2010.

Reason Waived: The HA implemented and transitioned to asset management. The waiver was granted because it would require manually collecting the data required for certification and would result in administrative hardship. The most recent management operations score of record would be carried over for fiscal year ending June 30, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Lucas Metropolitan Housing Authority, (OH006), Toledo, OH.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: May 10, 2010.

Reason Waived: The HA contends that it began converting to asset management in January 2008 and has implemented and transitioned to asset management. The conversion included a realignment of staff, revised position descriptions and major shift in property management staff duties, project-based budgeting and accounting and software upgrades to track and report relevant data. The waiver was granted because it would result in administrative hardship to gather the data for the management operations certification. Consequently, the most recent management operations score of record would be carried over for the fiscal year ending December 31, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Guam Housing and Urban Renewal Authority, (GQ001), Sinajana, Guam.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: May 10, 2010.

Reason Waived: The HA contends that retrieving and compiling the data from four property sites into one composite report would be an administrative hardship. The waiver was granted because it would take time and focus away to concentrate on fully converting the four property sites into full asset management. The most recent management operations score of record would be carried over for fiscal year ending September 30, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: City of Phoenix Housing Department, (AZ001), Phoenix, AZ.

Nature of Requirement: The regulation establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: May 10, 2010.

Reason Waived: The HA contends that it acquired a new business system that has capability to track information at the project level. However the system was not instituted for the entire 2009 fiscal year. To accurately reflect management operations certification data, the HA would have to extract data from old and new systems and compare the two to ensure there is no duplicate information. The waiver was granted because it would result in administrative hardship. The most recent management operations score of record would be carried over for fiscal year ending June 30, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority of Winston-Salem, (NC012), Winston-Salem, NC.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: May 25, 2010.

Reason Waived: The HA contends that it spent a large sum of money, time and resources in converting existing software to track property operations at each site and to comply with the new reporting requirements for asset management. The HA no longer tracks management operations PHA-wide and any certification provided would likely be inaccurate. The waiver was granted because it would result in administrative hardship. The most recent management operations score of record would be carried over for fiscal year ending September 30, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Mississippi Regional Housing Authority, (MS030), Newton, MS.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: May 25, 2010.

Reason Waived: The HA contends that it is converting to asset management and has installed project managers and is in the process of converting and revising its software systems for tracking and reporting operations on a decentralized property versus centralized agency. The waiver was granted because compiling the information using the current format, based on a centralized model would result in administrative hardship. The most recent management operations score of record would be carried over for fiscal year ending June 30, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Oklahoma City Housing Authority, (OK002), Oklahoma City, OK.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: May 25, 2010.

Reason Waived: The HA contends that it is in its second year of its transition to asset management and has begun modifying the automated information systems to support asset management. The waiver was granted because to convert this data back to project designations in order to provide a management certification would pose an administrative hardship. The most recent management operations score of record would be carried over for fiscal year ending December 31, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Junction City Housing Authority, (KS105), Junction City, KS.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: May 28, 2010.

Reason Waived: The HA contends that it discontinued collecting the data required for a management assessment certification based on the expectation that a PHAS III Final Rule would be published by the end of the transition year. The waiver was granted because the HA would not be able to certify to the quality or accuracy of the information and that would pose an administrative hardship. The most recent management operations score of record would be carried over for fiscal year ending December 31, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Mobile Housing Board, (AL002), Mobile, AL.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: May 28, 2010.

Reason Waived: The HA contends that a new management team has been working to compile, authenticate and verify the key management-related information to provide a management assessment certification. Many of the electronic records were apparently lost prior to the removal of the former executive director. The waiver was granted because the HA's efforts to certify its management operations information would pose an administrative hardship. The most recent management operations score of record would be carried over for fiscal year ending December 31, 2009.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Laurinburg Housing Authority, (NC018), Laurinburg, NC.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: June 17, 2010.

Reason Waived: The HA requested a waiver of the Transition Year 2 management operations certification requirements under the Management Assessment Subsystem (MASS) indicator for the fiscal year ending June 30, 2009, because the HA is in the process of converting to asset management. The HA divided its properties into two Asset Management Project (AMPs), expended large sums of money, time and resources in converting its existing software to track property operations at each site to comply with the new reporting requirements for asset management. In order to compile the information needed for certification, the HA would have to reconstruct the data manually by pulling all vacancy files and work orders. Retrieving the data needed for certifying MASS performance would result in an administrative hardship. The waiver was granted for fiscal year ending June 30, 2009, and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Butler Metropolitan Housing Authority, (OH015), Hamilton, OH.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: June 9, 2010.

Reason Waived: The HA requested a waiver of the Transition Year 2 management operations certification requirements under the Management Assessment Subsystem (MASS) Indicator for fiscal year ending June 30, 2009. Submission of the management operations certification would impose an administrative burden on the HA because the HA has been modifying its automated information system to comply with asset management. Additionally, the HA encountered significant changes in its management staff that would pose a burden for the HA to submit its management operations certification. The waiver was granted because the HA is in the process of converting to asset management and submission of the management operations certification would impose an administrative hardship. The most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Granite City Housing Authority, (IL005), Granite City, IL.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: June 29, 2010.

Reason Waived: The HA requested a waiver of the Transition Year 2 management operations certification requirements under the Management Assessment Subsystem (MASS) Indicator for fiscal year ending December 31, 2009. Compiling the information required for submission of the management operations certification would be time consuming and will result in an administrative hardship, because the HA is converting to asset management. The waiver was granted and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: North Iowa Regional Housing Authority, (IA127), Mason City, IA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: June 29, 2010.

Reason Waived: The HA requested a waiver of the Transition Year 2 management operations certification requirements under the Management Assessment Subsystem (MASS) Indicator for fiscal year ending September 30, 2009, because the HA would not be able to certify to the quality or accuracy of the MASS certification data due to unreasonable hardship. The waiver was granted and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority of the City of Harlingen, (TX065), Harlingen, TX.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: June 29, 2010.

Reason Waived: The HA requested a waiver of the Transition Year 2 management operations certification requirements under the Management Assessment Subsystem (MASS) Indicator for fiscal year ending March 31, 2009, because compiling the information required for submission of the management operations certification would be time consuming and will result in an administrative hardship, as the HA is converting to asset management. The waiver was granted and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Dallas Housing Authority, (TX009), Dallas, TX.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: June 29, 2010.

Reason Waived: The HA requested a waiver of the Transition Year 2 management operations certification requirements under the Management Assessment Subsystem (MASS) Indicator for fiscal year ending December 31, 2009, because the HA operates approximately 4,500 public housing units and is in Transition Year 2 of converting its inventory to asset management. In modifying its reporting and business processes to accommodate asset management, the HA would encounter a significant burden in trying to replicate the information needed to certify its MASS performance resulting in an administrative hardship. The waiver was granted and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority of the City of Oxnard, (CA031), Oxnard, CA.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: June 29, 2010.

Reason Waived: The HA requested a waiver of the Transition Year 2 management operations certification requirements under the Management Assessment Subsystem (MASS) Indicator for fiscal year ending June 30, 2009, because the HA is in its second year of asset management. The HA is developing tracking mechanisms to support property operations and its compliance with the new reporting requirements for asset management. The HA no longer tracks management operations data PHA wide and compiling the information would be inaccurate and cause an administrative hardship. The waiver was granted and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Metropolitan Development and Housing Agency, (TN005), Nashville, TN.

Nature of Requirement: HUD's regulation at 24 CFR 902.40 establishes that public housing agencies are required to submit a management operations certification under Public Housing Assessment System (PHAS). Public housing agencies that are converting to asset management and for which the submission of the current management operations certification would impose an administrative hardship, may request a waiver for their management operations certification within 30 days from the PHAS Asset Management Transition Year 2 Notice dated January 12, 2010.

Granted By: Sandra B. Henriquez, Assistant Secretary for Public and Indian Housing.

Date Granted: June 29, 2010.

Reason Waived: The HA requested a waiver of the Transition Year 2 management operations certification requirements under the Management Assessment Subsystem (MASS) Indicator for fiscal year ending June 30, 2009, because the HA has converted its public housing operations to asset management and also converted to a new software system for tracking and reporting its operations on a decentralized property versus centralized agency basis. Currently, the HA is monitoring and reporting on relevant indicators at the Asset Management Project (AMP) level on a monthly basis. Compiling the information using the current format, based on a centralized model, would result in an unreasonable hardship. The waiver was granted and the most recent management operations score of record would be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 941.306(b) and (c).

Project/Activity: C.W. Brooks Midrise.

Nature of Requirement: HUD's regulations at 24 CFR 941.306(b) and (c) require that the construction of units is within the Total Development Costs (TDC) and limits Housing Construction Costs (HCC).

Granted By: Sandra B. Henriquez, Assistant Secretary of Public and Indian Housing.

Date Granted: March 7, 2010.

Reason Waived: The Housing Authority of the City of Hagerstown, MD received funds under the American Reinvestment and Recovery Act (ARRA) to meet the Green Communities Criteria and complete 60 public housing units. A waiver of TDC/HCC limits is allowed under the ARRA and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 7th Street, SW., Room 4130, Washington, DC 20410-5000, telephone (202) 402-4181.

• Regulation: 24 CFR 941.606(n)(1)(ii).

Project/Activity: Gibson Plaza Apartments.

Nature of Requirement: HUD's regulation at 24 CFR 941.606(n)(1)(ii) requires public housing agencies to certify that they will use an open and competitive process to select its partners.

Granted By: Sandra B. Henriquez, Assistant Secretary of Public and Indian Housing.

Date Granted: May 14, 2010.

Reason Waived: HUD reviewed and acknowledged District of Columbia Housing Authority (DCHA) decision to procure First Baptist through a noncompetitive proposal. As a result, DCHA could not submit the certifications and assurances that it would use an open and competitive process to select its partners. HUD found good cause to grant the waiver for the limited purpose of selecting First Baptist as the development partner for the mixed-finance project at Gibson Apartments.

Contact: Dominique Blom, Deputy Assistant Secretary for the Office of Public Housing Investments, Office of Public and Indian Housing, Department of Housing and Urban Development, 451 7th Street, SW., Room 4130, Washington, DC 20410-5000, telephone (202) 402-4181.

• Regulation: 24 CFR 941.606(n)(1)(ii)(B).

Project/Activity: Renaissance Preserve Family Apartments, HOPE VI Grant: FL14URD041I105.

Nature of Requirement: HUD's regulation at 24 CFR 941.606(n)(1)(ii)(B) requires that if an owner entity wants to serve as general contractor; it may self-award subject to demonstration to HUD's satisfaction that its bid is the lowest competitive offer.

Granted By: Deborah Hernandez, General Deputy Assistant Secretary of Public and Indian Housing.

Date Granted: April 1, 2010.

Reason Waived: The Housing Authority of the City of Fort Myers, FL submitted an independent cost estimate.

Contact: Dominique Blom, Deputy Assistant Secretary for the Office of Public Housing Investments, Office of Public and Indian Housing, Department of Housing and Urban Development, 451 7th Street, SW., Room 4130, Washington, DC 20410-5000, telephone (202) 402-4181.

• Regulation: 24 CFR 941.606(n)(1)(ii)(B).

Project/Activity: Parkside Senior Housing.

Nature of Requirement: HUD's regulation at 24 CFR 941.606(n)(1)(ii)(B) requires that if an owner entity wants to serve as general contractor; it may self-award subject to demonstration to HUD's satisfaction that its bid is the lowest competitive offer.

Granted By: Deborah Hernandez, General Deputy Assistant Secretary of Public and Indian Housing.

Date Granted: May 26, 2010.

Reason Waived: The Housing Authority of the Township of Franklin, NJ submitted an independent cost estimate.

Contact: Dominique Blom, Deputy Assistant Secretary for the Office of Public Housing Investments, Office of Public and Indian Housing, Department of Housing and Urban Development, 451 7th Street, SW., Room 4130, Washington, DC 20410-5000, telephone (202) 402-4181.

• Regulation: 24 CFR 941.606(n)(1)(ii)(B).

Project/Activity: Huntsville, AL CFRC Grant Number: AL0400000109F.

Nature of Requirement: HUD's regulation at 24 CFR 941.606(n)(1)(ii)(B) requires that if an owner entity wants to serve as general contractor; it may self-award subject to demonstration to HUD's satisfaction that its bid is the lowest competitive offer.

Granted By: Sandra B. Henriquez, Assistant Secretary of Public and Indian Housing.

Date Granted: June 23, 2010.

Reason Waived: The Huntsville Housing Authority, AL submitted an independent cost estimate.

Contact: Dominique Blom, Deputy Assistant Secretary for the Office of Public Housing Investments, Office of Public and Indian Housing, Department of Housing and Urban Development, 451 7th Street, SW., Room 4130, Washington, DC 20410-5000, telephone (202) 402-4181.

• Regulation: 24 CFR 982.305(c)(4).

Project/Activity: Southern Nevada Regional Housing Authority (SNRHA), Las Vegas, NV.

Nature of Requirement: HUD's regulation at 24 CFR 982.305(c)(4) provides that any housing assistance payments (HAP) contract executed after 60 calendar days from the beginning of the lease term is void and the public housing Agency (PHA) may not pay any HAP to the owner.

Granted By: Sandra B. Henriquez, Assistant Secretary for Public and Indian Housing.

Date Granted: April 22, 2010.

Reason Waived: Las Vegas and Clark County Housing Authorities merged on January 1, 2010. Pursuant to this merger, it was discovered that several HAP contracts had not been executed during the requisite time period. The regulation was waived since failure to execute those HAP contracts after the due date was not the fault of the SNRHA and to ensure continued rental assistance to families under those HAP contracts.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.503(d) and 982.505(c)(3).

Project/Activity: Municipality of San Juan Public Housing Authority (MSJPHA), San Juan, PR.

Nature of Requirement: HUD's regulation at 24 CFR 982.503(d) provides that HUD may consider and approve a PHA's establishment of a payment standard lower than the basic range, but that HUD will not approve a lower payment standard if the family share for more than 40 percent of participants in the PHA's Housing Choice Voucher program exceeds 30 percent of adjusted monthly income. The regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: May 26, 2010.

Reason Waived: These waivers were granted because these cost-saving measures would enable MSJPHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Columbus Housing Authority (CHA), Columbus, GA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: April 30, 2010.

Reason Waived: This waiver was granted because this cost-saving measure would enable CHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Low Rent Housing Agency of Burlington (LRHAB), Burlington, IA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: May 10, 2010.

Reason Waived: This waiver was granted because this cost-saving measure would enable LRHAB to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Portsmouth Housing Authority (PHA), Portsmouth, RI.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: May 14, 2010.

Reason Waived: This waiver was granted because this cost-saving measure would enable PHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC. 20410-5000, telephone (202) 708-0477.

• Regulation: 24 CFR 982.505(c)(3).

Project/Activity: Watertown Housing Authority (WHA), Watertown, SD.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: May 20, 2010.

Reason Waived: This waiver was granted because this cost-saving measure would enable WHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: New Ulm Economic Development Authority (NUEDA), New Ulm, MN.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: May 27, 2010.

Reason Waived: This waiver was granted because this cost-saving measure would enable NUEDA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Housing Authority of the City of Ansonia (HACA), Ansonia, CT.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: June 8, 2010.

Reason Waived: This waiver was granted because this cost-saving measure would enable HACA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Housing and Redevelopment Authority of Douglas County (HRADC), Douglas County, MN.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: July 9, 2010.

Reason Waived: This waiver was granted because this cost-saving measure would enable HRADC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Petersburg Redevelopment and Housing Authority (PRHA), Petersburg, VA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: June 9, 2010.

Reason Waived: This waiver was granted because this cost-saving measure would enable PRHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Ferndale Housing Commission (FHC), Ferndale, MI.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: June 10, 2010.

Reason Waived: This waiver was granted because this cost-saving measure would enable FHC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Housing and Redevelopment Commission of the City of Aberdeen (HRCCA), Aberdeen, SD.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: June 17, 2010.

Reason Waived: This waiver was granted because this cost-saving measure would enable HRCCA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Cortland Housing Authority (CHA), Cortland, NY.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: June 17, 2010.

Reason Waived: This waiver was granted because this cost-saving measure would enable CHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Dodge County Housing Authority (DCHA), Dodge County, WI.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted By: Sandra B. Henriquez, Assistant Secretary for Public and Indian Housing.

Date Granted: June 17, 2010.

Reason Waived: This waiver was granted because this cost-saving measure would enable DCHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(d).

Project/Activity: Tennessee Housing Development Agency (THDA), Nashville, TN.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: April 22, 2010.

Reason Waived: The participant, who has a disabled son, needed to remain in her current neighborhood as a reasonable accommodation for her son. To provide a reasonable accommodation so the participant could be assisted in her new unit and pay no more than 40 percent of her adjusted income toward the family share, the THDA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(d).

Project/Activity: Oklahoma Finance Agency (OFA), Oklahoma City, OK.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: June 10, 2010.

Reason Waived: The participant, who is disabled, needed to remain in her current unit because it accommodates her disability. To provide this reasonable accommodation so the participant could be assisted in her current unit and pay no more than 40 percent of her adjusted income toward the family share, the OFA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 983.51(b)(c) and (f).

Project/Activity: West Allis Community development Authority (WACDA), West Allis, WI.

Nature of Requirement: HUD's regulation at 24 CFR 983. 51(b)(c)(d) and (f) basically require competitive selection of owner proposals for project-based vouchers (PBV) unless the units were competitively selected under a similar competitive process as described in the regulation.

Granted By: Sandra B. Henriquez, Assistant Secretary for Public and Indian Housing.

Date Granted: April 1, 2010.

Reason Waived: This waiver was granted in order to maintain the affordability of a Senior Housing Complex owned by the City of West Allis and operated by the WACDA due to rising maintenance costs and the need to charge market rents.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 983.206(b).

Project/Activity: Malden Housing Authority (MHA), Malden MA.

Nature of Requirement: HUD's regulation at 24 CFR 983.206(b) states that at the discretion of the PHA and provided that the total number of units in a project that will receive project-based voucher (PBV) assistance or other project-based assistance will not exceed 25 percent of the number of dwelling units (assisted or unassisted) in the project or the 20 percent of authorized budget authority, a housing assistance payments (HAP) contract may be amended during the three-year period immediately following the execution date of the HAP contract to add additional PBV contract units in the same project.

Granted By: Sandra B. Henriquez, Assistant Secretary for Public and Indian Housing.

Date Granted: May 7, 2010.

Reason Waived: The regulation was waived to allow MHA to attach PBV assistance as enhanced vouchers turned over for up to the term of the HAP contract, 15 years, in order to maintain their affordability on a non-specified schedule.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 985.101(a).

Project/Activity: Housing Authority of New Orleans (HANO), New Orleans, LA.

Nature of Requirement: HUD's regulation at 24 CFR 985.101(a) states that a public housing agency must submit the HUD-required Section Eight Management Assessment Program (SEMAP) certification form within 60 calendar days after the end of its fiscal year.

Granted By: Sandra B. Henriquez, Assistant Secretary for Public and Indian Housing.

Date Granted: April 26, 2010.

Reason Waived: HANO is under receivership and the HUD-selected contractor assessed HANO's operation and determined a plan to bring the agency into compliance will not be in place until the third or fourth quarter of HANO's fiscal year ending September 30, 2010. SEMAP certifications will not have to be submitted by HANO until its fiscal year ending September 30, 2012.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

[FR Doc. 2010-24608 Filed 9-30-10; 8:45 am]

BILLING CODE 4210-67-P